DEPARTMENT OF TRANSPORTATION

National Highway Traffic Safety Administration

[Docket No. DOT-NHTSA-2013-0028]

Request for Comments on a New Information Collection

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on April 9, 2013 (78 FR 21189).

DATES: Comments must be submitted on or before July 29, 2013.

FOR FURTHER INFORMATION CONTACT: Mr. Patrick Hallan, (202) 366-9146, NHTSA, U.S. Department of Transportation, 1200 New Jersey Avenue SE., Washington, DC 20590.

SUPPLEMENTARY INFORMATION: Title: 49 CFR 571.116, Motor Vehicle Brake Fluids.

OMB Control Number: 2127-0521.

Type of Request: New Information Collection.

Abstract: Federal Motor Vehicle Safety Standard No. 116, Motor Vehicle Brake Fluids, specifies performance and design requirements for motor vehicle brake fluids and hydraulic system mineral oils. Section 5.2.2 of the standard specifies labeling requirements for manufacturers and packagers of brake fluids as well as packagers of hydraulic system mineral oils. The label on a container of motor vehicle brake fluid or hydraulic system mineral oil is permanently attached, clearly states the contents of the container, and includes a DOT symbol indicating that the contents of the container meet the requirements of FMVSS No. 116. The label is necessary to help ensure that these fluids are used for their intended purpose only and the containers are properly disposed of when empty. Improper use, storage, or disposal of these fluids could represent a significant safety hazard for the operators of vehicles or equipment in which they are used and for the environment.

Affected Public: Business or other for profit organizations.

Number of Respondents: 200.

Number of Responses: 70,000,000.

Total Annual Burden Hours: 7,000.

Frequency of Collection: N/A.

ADDRESSES: Send comments regarding the burden estimate, including suggestions for reducing the burden, to the Office of Management and Budget, Attention: Desk Officer for the Office of the Secretary of Transportation, 725 17th Street NW., Washington, DC 20503, Attention NHTSA Desk Officer or to the Docket Management System, Docket Number NHTSA-2013-0028 at http://www.regulations.gov/.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued on: June 21, 2013.
Christopher J. Bonanti
Associate Administrator for Rulemaking.

[FR Doc. 2013-15401 Filed 6-26-13; 8:45 am]

BILLING CODE 4910-59-P